DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Fisheries Certificates of Origin.

Form Number(s): NOAA 370.

OMB Approval Number: 0648-0335.

Type of Request: Regular submission.

Burden Hours: 3,667.

Number of Respondents: 350.

Average Hours Per Response: 20 minutes.

Needs and Uses: Due to the information required by the International Dolphin Conservation Program Act, amendment to the Marine Mammal Protection Act, is needed: To document the dolphin-safe status of tuna import shipments; to verify that import shipments of fish were not harvested by large scale, high seas driftnets; and to verify that imported tuna was not harvested by an embargoed nation or one that is otherwise prohibited from exporting tuna to the United States. Forms are submitted by importers and processors.

Affected Public: Business or other for-profit organizations.

Frequency: On occasion.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: April 4, 2007.
Gwellnar Banks,
Management Analyst, Office of the Chief Information Officer.

[FR Doc. E7-6663 Filed 4-9-07; 8:45 am]

BILLING CODE 3510-22-P